DEPARTMENT OF AGRICULTURE

Forest Service

Idaho Panhandle National Forest, Idaho—Quartz Gold Project EIS

AGENCY: Forest Service, USDA.

ACTION: Notice of intent to prepare an environmental impact statement.

SUMMARY: The Forest Service will prepare an environmental impact statement on a proposal of ecosystem management in the Quartz Gold project area, which is approximately 44,000 acres in size. Opportunities were developed through a comparison of existing project area conditions with desired future conditions for all the resources in the project area. The assessment utilized the Idaho Panhandle Forest Plan and findings from the St. Joe Geographic Assessment, Upper Columbia River Basin Assessment along with trends observed by interdisciplinary specialists conducting on the ground assessments. The proposal improves forest health, wildlife and fisheries habitat, and watershed health. It reduces risks to wildfire, and maintains a spectrum of access for public recreation. The project is intended to move the landscape toward long-term ecologic, economic and social sustainability.

DATES: Comments concerning the scope of the analysis must be received within 30 days of publication of this notice in the Federal Register. The draft environmental impact statement is expected to be available for public review in July 2003 and the final environmental impact statement is expected November 2003.

ADDRESSES: Send written comments to George Bain, District Ranger, St. Joe Ranger District, PO Box 407, St. Maries, Idaho 83861 or electronically to gbain@fs.fed.us. For further information, mail correspondence to Kimberly Johnson, EIS Team Leader at the address listed above. Information on this project can be found on the Internet by going to http://www.fs.fed.us/ipnf/ and looking under Ecosystems, Management, Index of NEPA Project and St. Joe Ranger District.

FOR FURTHER INFORMATION CONTACT: Kimberly Johnson, Quartz Gold Project Team Leader, 208-245-6072.

SUPPLEMENTARY INFORMATION:

Purpose and Need for Action

The purpose of this proposal is to improve forest health by managing vegetative conditions that in the long term encourage more resilient and sustainable forest conditions. It also improves and maintains winter range conditions and white bark pine habitat, which are both declining. It will reduce the risk of resource loss through fuel management and improve growing conditions for sapling/pole stands. The proposal will contribute to watershed recovery processes by correcting sediment sources from the existing road system. Approximately 65% of stream-crossing culverts surveyed are undersized for a 100 year event (as required by Infish). It will also improve instream habitat conditions as several streams in the area are not meeting Infish standards as directed in the Forest Plan and provide fish passage on those road/stream crossing culverts. It will increase wildlife security which is currently below Forest Plan standards and maintain a spectrum of access for public recreation and provide opportunities for disabled hunters, which currently, one exists on the District.

Proposed Action

The proposed action to meet the purpose and need of the project area is: commercially harvest approximately 5,300 acres of which 4,000 acres is intermediate harvest, 1,100 acres are sanitation salvage and approximately 200 acres of regeneration harvest (clearcut with reserve). The commercial harvest would include approximately 9 miles of road construction and reconstruction on existing roads. The proposal also includes the use of prescribe burning on approximately 466 acres on big game winter range, building approximately 3 miles of fuel breaks on the Idaho/Montana border, conducting pre-commercial stand improvement on approximately 2,000 acres, enhancement of whitebark pine habitat on 1,434 acres, by thinning around the remaining trees, and decommissioning approximately 160 miles of road and putting approximately 68 miles of road into storage. The proposal also adds access for disabled hunters, provides loops for ATV enthusiasts, increases wildlife security through effective road closures and improves instream fisheries habitat by placing structures in several streams in the area.

Responsible Official

Ranotta McNair, Forest Supervisor, Idaho Panhandle National Forest, 3815 Schreiber Way, Coeur D'Alene, Idaho 83815.

Nature of Decision To Be Made

The St. Joe Ranger District will prepare the EIS. The Forest Supervisor of the Idaho Panhandle National Forest will decide whether to implement this project, and if so, in what manner. The decision will be documented in a Record of Decision (ROD).

Scoping Process

Public Scoping packages describing the proposed action were sent out to the Quartz Gold Project mailing list in January 2003. An open house was held in February of 2003. A field trip to the project area is planned for May or June of 2003.

Preliminary Issues

Preliminary issues from scoping have been identified. These include effects of the proposed vegetation management and roads on water yield and sediment delivery to streams, the effects of management activities on riparian habitat conservation areas, the effects of proposed access management on the full spectrum of recreation use of roads and trial in the project area, and economic cost efficiency of proposed commercial harvest and road construction and decommissioning.

Comment Requested

This notice of intent initiates the scoping process which guides the development of the environmental impact statement. To assist the Forest Service in identifying and considering issues and concerns on the proposed action, comments should be as specific as possible. Public participation in this analysis is welcome at any time, however; comments received within 30 days of publication of this notice will be especially useful in the preparation of the Draft EIS.

Early Notice of Importance of Public Participation in Subsequent Environmental Review: A draft environmental impact statement will be prepared for comment. The comment period on the draft environmental impact statement will be 45 days from the date the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334;, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501. 7 and 1508.22; Forest Service Handbook 1909.15, Section 21)
Dated: May 9, 2003.
Ranotta K. McNair,
Forest Supervisor.

[FR Doc. 03-12104 Filed 5-14-03; 8:45 am]

BILLING CODE 3410-11-M